POSTAL SERVICE

39 CFR Part 20

International Product and Price Changes

AGENCY: Postal Service™.

ACTION: Final rule.

SUMMARY: The Postal Service is revising Mailing Standards of the United States Postal Service, International Mail Manual (IMM®), to reflect the prices, product features, and classification changes to Competitive Services, as established by the Governors of the Postal Service.

DATES: Effective date: January 22, 2017.

FOR FURTHER INFORMATION CONTACT: Paula Rabkin at 202-268-2537.

SUPPLEMENTARY INFORMATION: New prices will be posted under Docket Number CP2017-20 on the Postal Regulatory Commission's Web site at http://www.prc.gov.

This final rule describes the international price and classification changes and the corresponding mailing standards changes for the following Competitive Services:

• Global Express Guaranteed® (GXG®);

• International Priority Airmail® (IPA®);

• International Surface Air Lift® (ISAL®);

• Direct Sacks of Printed Matter to One Addressee (Airmail M-bag®); and

• International Extra Services:

○ Priority Mail Express International® (PMEI) Insurance and Priority Mail International® (PMI) Insurance,

○ Registered Mail™ Service,

○ International Postal Money Orders, and

• Pickup on Demand®.

New prices will be located on the Postal Explorer® Web site at http://pe.usps.com.

Global Express Guaranteed

Global Express Guaranteed (GXG) provides fast international shipping with international transportation and delivery provided by FedEx Express®. The price increase for GXG service averages 4.9 percent.

The Postal Service continues to provide Commercial Base pricing to online customers who prepare and pay for GXG shipments via USPS®-approved payment methods, with variable discounts up to 5 percent off the published retail prices for GXG.

The Postal Service also continues to offer Commercial Plus pricing incentives for large volume customers who commit to tendering $100,000 in annual postage revenue from GXG, Priority Mail Express International (PMEI), Priority Mail International (PMI), and First-Class Package International Service® (FCPIS®) via USPS-approved payment methods, with variable discounts up to 5 percent off the published retail prices for GXG.

International Priority Airmail and International Surface Air Lift

The structure of IPA and ISAL price categories will continue to be priced by the worldwide and 19 country price groups and applicable mail shapes [letters and postcards, large envelopes (flats), and packages (small packets and rolls)]. These categories correspond to the Universal Postal Convention requirements to use shape-based pricing.

International Priority Airmail (IPA) service, including IPA M-bags, is a bulk commercial service designed for volume mailings of First-Class Mail International® postcards, letters, large envelopes (flats), and FCPIS packages (small packets) weighing up to a maximum 4.4 pounds. IPA is dispatched to the destination country where it is entered into the postal administration's air or surface priority mail system for delivery. The overall price increase for IPA service averages 3.8 percent.

International Surface Air Lift (ISAL) service, including ISAL M-Bags, is a bulk commercial service designed for volume mailings of all First-Class Mail International postcards, letters, large envelopes (flats), and FCPIS packages (small packets) weighing up to 4.4 pounds. ISAL is dispatched to the destination country where it is then entered into the postal administration's surface nonpriority network. The overall price increase for ISAL service averages 3.8 percent.

Direct Sacks of Printed Matter to One Addressee (Airmail M-Bags)

Airmail M-bags are direct sacks of printed matter sent to a single foreign addressee at a single address. Prices are based on the weight of the sack. The price increase for Airmail M-bags averages 4.9 percent.

International Extra Services

Depending on country destination and mail type, customers may add a variety of extra services to their outbound shipments. Prices for some of these extra services are increasing.

For our competitive offerings, we revised the prices for the following international extra services:

PMEI Insurance and PMI Insurance

The price for PMEI Insurance and PMI insurance will increase an average of 4.7 percent.

Registered Mail

The price for Registered Mail service will increase 7.2 percent.

International Postal Money Orders

The price for International Postal Money Orders will increase by 73.7 percent.

Pickup on Demand

The price for Pickup on Demand will increase 10 percent.

We will publish an appropriate amendment to 39 CFR part 20 to reflect these changes.

Stanley F. Mires,
Attorney, Federal Compliance.

[FR Doc. 2016-25711 Filed 10-25-16; 8:45 am]

BILLING CODE 7710-12-P